DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been removed from the Specially Designated Nationals and Blocked Person List (SDN List).

DATES: See SUPPLEMENTARY INFORMATION section for applicable date.

FOR FURTHER INFORMATION CONTACT: OFAC: Andrea Gacki, Director, tel.: 202-622-2480; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (www.treasury.gov/ofac).

Notice of OFAC Actions

OFAC previously determined the individuals listed below met one or more of the criteria under the Cuban Assets Control Regulations, 31 CFR part 515 (CACR) and Sections 5 and 16 of the Trading With the Enemy Act, 50 U.S.C. App. §§ 5, 16 (TWEA) to be added to the SDN List. On December 30, 2021, OFAC determined that circumstances no longer warrant the inclusion of the following individuals on the SDN List under this authority.

Individuals

1. NORIEGA, Manuel Antonio, Panama (individual) [CUBA].

2. SIEIRO DE NORIEGA, Felicidad, Panama (individual) [CUBA].

Dated: December 30, 2021.
Gregory T. Gatjanis,
Associate Director, Office of Global Targeting, Office of Foreign Assets Control, U.S. Department of the Treasury.

[FR Doc. 2021-28588 Filed 1-4-22; 8:45 am]

BILLING CODE 4810-AL-P